DEPARTMENT OF ENERGY

Federal Energy Regulatory Commission

Notice of Commission Staff Attendance

The Federal Energy Regulatory Commission hereby gives notice that members of the Commission's staff may attend the following meetings related to the transmission planning activities of the PJM Interconnection, L.L.C. (PJM):

Midwest ISO-PJM Interregional Coordination Workshop

October 24, 2012, 8:00 a.m.-3:00 p.m., Local Time.

PJM Regional Transmission Planning Task Force/PJM Interconnection Process Senior Task Force

November 16, 2012, 9:30 a.m.-3:00 p.m., Local Time;

December 17, 2012, 9:30 a.m.-3:00 p.m., Local Time.

The above-referenced meetings will be held over conference call or at:

The PJM Conference & Training Center, Norristown, PA.

or

Midwest ISO, Carmel, IN.

The above-referenced meetings are open to stakeholders.

Further information may be found at www.pjm.com.

The discussions at the meetings described above may address matters at issue in the following proceedings:

Docket No. EL05-121, PJM Interconnection, L.L.C.

Docket No. EL07-56, Allegheny Electric Cooperative, Inc., et a., v PJM Interconnection, L.L.C.

Docket No. EL07-58, Organization of PJM States, Inc., et al., v. PJM Interconnection, L.L.C.

Docket No. EL08-14, Black Oak Energy LLC, et al., v. FERC

Docket No. EL10-52, Central Transmission, LLC v. PJM Interconnection, L.L.C.

Docket No. EL12-45, PJM Interconnection, L.L.C.

Docket No. EL12-50, First Energy Solutions Corporation et al v. PJM Interconnection, L.L.C.

Docket No. EL12-54, Viridity Energy, Inc. v. PJM Interconnection, L.L.C.

Docket No. EL12-69, Primary Power LLC v. PJM Interconnection, L.L.C.

Docket No. EL12-8, DC Energy, L.L.C. and DC Energy Mid-Atlantic, L.L.C. vs. PJM Interconnection, L.L.C.

Docket No. AD12-1 and ER11-4081, Midwest Independent Transmission System Operator, Inc.

Docket No. AD12-16, Capacity Deliverability Across the Midwest Independent Transmission System Operator, Inc./PJM Interconnection, L.L.C. Seam

Docket No. EL13-10, North American Natural Resources, Inc. v. PJM Interconnection, L.L.C. et. al.

Docket No. ER08-194-000, et al., Duquesne Light Company et al.

Docket No. ER09-1063, PJM Interconnection, L.L.C.

Docket No. ER09-1148, PPL Electric Utilities Corporation

Docket No. ER09-1256, Potomac-Appalachian Transmission Highline, L.L.C.

Docket Nos. ER09-1589 and EL10-6, FirstEnergy Service Company

Docket No. ER10-253 and EL10-14, Primary Power, L.L.C.

Docket No. ER10-549, PJM Interconnection, L.L.C.

Docket No. ER11-1844, Midwest Independent Transmission System Operator, Inc.

Docket Nos. ER11-2814 and ER11-2815, PJM Interconnection, L.L.C. and American Transmission Systems, Inc.

Docket No. ER11-2875 and EL11-20, PJM Interconnection, L.L.C.

Docket No. ER11-4106, PJM Interconnection, L.L.C.

Docket No. ER11-4628, PJM Interconnection, L.L.C.

Docket No. ER12-1173, PJM Interconnection, L.L.C., et. al.

Docket No. ER12-1178, PJM Interconnection, L.L.C.

Docket No. ER12-92, PJM Interconnection, L.L.C., et. al

Docket No. ER12-1204, PJM Interconnection, L.L.C.

Docket No. ER12-1761, PJM Interconnection, L.L.C.

Docket No. ER12-2080, GenOn Power Midwest, LP

Docket No. ER12-2260, New York Independent System Operator, Inc

Docket No. ER12-2262, PJM Interconnection, L.L.C.

Docket No. ER12-2274, Public Service Electric and Gas Company

Docket No. ER12-2391, PJM Interconnection, L.L.C.

Docket No. ER12-2399, PJM Interconnection, L.L.C.

Docket No. ER12-2417, PJM Interconnection, L.L.C.

Docket No. ER12-2440, PJM Interconnection, L.L.C.

Docket No. ER12-2442, PJM Interconnection, L.L.C.

Docket No. ER12-2469, PJM Interconnection, L.L.C.

Docket No. ER12-2486, PJM Interconnection, L.L.C.

Docket No. ER12-2518, PJM Interconnection, L.L.C.

Docket No. ER12-2527, PJM Interconnection, L.L.C.

Docket No. ER12-2550, PJM Interconnection, L.L.C.

Docket No. ER12-2574, PJM Interconnection, L.L.C.

Docket No. ER12-2594, PJM Interconnection, L.L.C.

Docket No. ER12-2599, PJM Interconnection, L.L.C.

Docket No. ER12-2604, PJM Interconnection, L.L.C.

Docket No. ER12-2606, PJM Interconnection, L.L.C.

Docket No. ER12-2610, PJM Interconnection, L.L.C.

Docket No. ER12-2616, PJM Interconnection, L.L.C.

Docket No. ER12-2624, PJM Interconnection, L.L.C.

Docket No. ER12-2661, PJM Interconnection, L.L.C.

Docket No. ER12-2663, PJM Interconnection, L.L.C.

Docket No. ER12-2664, PJM Interconnection, L.L.C.

Docket No. ER12-2671, PJM Interconnection, L.L.C.

Docket No. ER12-2688, PJM Interconnection, L.L.C.

Docket No. ER12-2815, PJM Interconnection, L.L.C.

Docket No. ER12-469, PJM Interconnection, L.L.C.

Docket No. ER12-513, PJM Interconnection, L.L.C.

Docket No. ER12-718, New York Independent System Operator, Inc.

Docket No. ER12-91, PJM Interconnection, L.L.C.

Docket No. ER12-92, PJM Interconnection, L.L.C.

Docket No. ER12-469, PJM Interconnection, L.L.C.,

Docket Nos. ER11-2183 and EL11-32, American Electric Power Service Corporation

Docket No. ER12-2085, PJM Interconnection, L.L.C.

Docket No. ER12-2707, PJM Interconnection, L.L.C.

Docket No. ER12-2708, PJM Interconnection, L.L.C.

Docket No. ER13-27, PJM Interconnection, L.L.C.

Docket No. ER13-51, PJM Interconnection, L.L.C.

Docket No. ER13-52, PJM Interconnection, L.L.C.

Docket No. ER13-53, PJM Interconnection, L.L.C.

Docket No. ER13-66, PJM Interconnection, L.L.C.

Docket No. ER13-74, PJM Interconnection, L.L.C.

Docket No. ER13-90, Public Service Electric and Gas Company and PJM Interconnection, L.L.C.

Docket No. ER13-116, PJM Interconnection, L.L.C.

Docket No. ER13-124, PJM Interconnection, L.L.C.

Docket No. ER13-126, PJM Interconnection, L.L.C.

For more information, contact Jonathan Fernandez, Office of Energy Market Regulation, Federal Energy Regulatory Commission at (202) 502-6604 or jonathan.fernandez@ferc.gov.

Dated: October 17, 2012.
Kimberly D. Bose,
Secretary.

[FR Doc. 2012-26140 Filed 10-23-12; 8:45 am]

BILLING CODE 6717-01-P